DEPARTMENT OF THE INTERIOR

Fish and Wildlife Service

[FWS-R8-ES-2018-N082; FXES11140800000-189-FF08E00000]

Green Diamond Resource Company Proposed Forest Habitat Conservation Plan and Draft Environmental Impact Statement; Humboldt and Del Norte Counties, CA

AGENCY: Fish and Wildlife Service, Interior.

ACTION: Notice of availability; request for comments.

SUMMARY: The Green Diamond Resource Company of Korbel, California (applicant), has applied to the U.S. Fish and Wildlife Service (Service) for the issuance of an incidental take permit under the Endangered Species Act (ESA) and issuance of a Migratory Bird Scientific Collecting Permit under the Migratory Bird Treaty Act (MBTA). We advise the public of the availability of a proposed habitat conservation plan (HCP), which covers the northern spotted owl and three other species, and the draft environmental impact statement (DEIS), for public review and comment. The HCP covers forest management, species management, and monitoring activity on commercial timberland in Humboldt and Del Norte Counties, California.

DATES: We will receive public comments on the HCP and DEIS until September 6, 2018.

ADDRESSES: Obtaining Documents: You may obtain the documents by the following methods.

• Internet: https://www.fws.gov/arcata/es/HCP.htm.

• Public libraries: Electronic copies of the documents will be available for viewing at Del Norte and Humboldt County Libraries on their public access computer stations. In Del Norte County, the documents will be available in the Main Library in Crescent City and in the branch library in Smith River. In Humboldt County, the documents will be at the Eureka Main Library, and at branch libraries in Arcata, McKinleyville, and Willow Creek.

Submitting Comments: You may submit comments by one of the following methods. Please include your contact information.

• Email: W8GreenDiamondEISHCP@fws.gov.

• U.S. mail or hand-delivery: Jennifer L. Norris, Assistant Field Supervisor, U.S. Fish and Wildlife Service, Arcata Fish and Wildlife Office, 1655 Heindon Road, Arcata, CA 95521-4573.

• Fax: 707-822-8411.

FOR FURTHER INFORMATION CONTACT: Jennifer Norris, Assistant Field Supervisor, by phone at 707-822-7201, or via U.S. mail to U.S. Fish and Wildlife Service, 1655 Heindon Road, Arcata, CA 95521-4573.

SUPPLEMENTARY INFORMATION: The Green Diamond Resource Company of Korbel, California (applicant), has applied to the U.S. Fish and Wildlife Service (Service) for the issuance of an incidental take permit under section 10 (a)(1)(B) of the Endangered Species Act, as amended (ESA; 16 U.S.C. 1531 et seq.). The applicant is applying for a new incidental take permit to replace an existing 30-year permit that is due to expire in 2022. The applicant is requesting a permit for incidental take of four animal species during the proposed 50-year permit. The permit is needed to authorize incidental take of listed animal species resulting from covered activities. Additionally, the Applicant has applied for the issuance of a Migratory Bird Scientific Collecting Permit (50 Code of Federal Regulations [CFR] 21.23) under the Migratory Bird Treaty Act in support of research to determine whether removal of barred owls (Strix varia) can be scaled up to the Plan Area level for the benefit of northern spotted owls. The applicant's proposed habitat conservation plan (HCP) area encompasses 357,412 acres of commercial timberland in Humboldt and Del Norte counties, California.

Pursuant to the National Environmental Policy Act (NEPA), we advise the public of the availability of the proposed HCP and our draft environmental impact statement (DEIS).

Background

Section 9 of the ESA and Federal regulations prohibit the “take” of fish and wildlife species federally listed as endangered or threatened. Take of federally listed fish or wildlife is defined under the ESA as to harass, harm, pursue, hunt, shoot, wound, kill, trap, capture, or collect listed species, or attempt to engage in such conduct (16 U.S.C. 1538). “Harm” includes significant habitat modification or degradation that actually kills or injures listed wildlife by significantly impairing essential behavioral patterns, including breeding, feeding, and sheltering (50 CFR 17.3). Under limited circumstances, we may issue permits to authorize incidental take that is not the purpose of, otherwise lawful activities.

The Migratory Bird Treaty Act protects over 1000 species of birds, including the barred owl. The Migratory Bird Treaty Act provides that it is unlawful to pursue, hunt, take, capture, kill, possess, sell, purchase, barter, import, export, or transport any migratory bird, or any part, nest, or egg of any such bird, unless authorized under a permit issued by the Secretary of the Interior. As authorized by the Migratory Bird Treaty Act, the Service may issue permits for scientific collecting (50 CFR 21.23). Migratory bird permits are issued by the Regional Migratory Bird Permit Offices. The permit for this experiment would be issued by the USFWS Pacific Southwest Region in Sacramento, California.

The proposed incidental take permit would cover one bird species, the northern spotted owl (Strix occidentalis caurina), which is federally listed as threatened. Three mammal species are also proposed to be covered; these species have no Federal listing status, and are the fisher (Pekania pennanti), red tree vole (Arborimus longicaudus), and Sonoma vole (Arborimus pomo).

To determine whether removal of barred owls can be scaled up to the Plan Area level for the benefit of northern spotted owls, a Migratory Bird Scientific Collecting Permit for barred owl is proposed.

The HCP area encompasses 357,412 acres. The HCP and permit contain conservation measures considered necessary to minimize and mitigate the impacts, to the maximum extent practicable, of the potential taking of federally listed species to be covered by the HCP and the habitats upon which they depend. The covered activities under the HCP are those associated with commercial forest management within the plan area.

National Environmental Policy Act Compliance

The DEIS analyzes four land management alternatives. These include a “no action” alternative, which allows the existing 30-year incidental take permit to expire at the end of its term in 2022 with no permit replacement. The proposed action consists of a four-species HCP and associated permit with a 50-year term. Two other “action” alternatives are included. Alternatives A and B evaluate a single-species HCP and 50-year permit for the northern spotted owl only. Alternative B is unique from Alternative A, as it proposes a shift in company policy from even-aged forest management toward uneven-aged forest management.

Public Review

Any comments we receive will become part of the decision record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the Act (16 U.S.C. 1531 et seq.) and its implementing regulations (50 CFR 17.22), MBTA (16 U.S.C. 703 et seq.) and implementing regulations (50 CFR 21.23), and NEPA (42 U.S.C. 4321 et seq.) and NEPA implementing regulations (40 CFR 1506.6).

Michael Fris,
Assistant Regional Director, Pacific Southwest Region, Sacramento, California.

[FR Doc. 2018-15660 Filed 7-20-18; 8:45 am]

BILLING CODE 4333-15-P